DEPARTMENT OF COMMERCE

National Oceanic and Atmospheric Administration

RIN 0648-AW65

Atlantic Highly Migratory Species (HMS); Atlantic Shark Management Measures

AGENCY: National Marine Fisheries Service (NMFS), National Oceanic and Atmospheric Administration (NOAA), Commerce.

ACTION: Notice of availability; notice of public scoping meetings; extension of comment period.

SUMMARY: NMFS previously published, on May 7, 2008, a notice of intent (NOI) to initiate an amendment to the 2006 Consolidated Highly Migratory Species (HMS) Fishery Management Plan (FMP), including an Environmental Impact Statement. NMFS now announces the availability of an issues and options presentation describing potential measures for inclusion in Amendment 3 to the 2006 Consolidated HMS FMP and provides details for four scoping meetings to discuss and collect comments on these issues. Comments received by NMFS on the NOI and issues and options presentation as well as in the scoping meetings will be used in the development of Amendment 3 to the 2006 Consolidated HMS FMP.

DATES: Scoping meetings for Amendment 3 will be held from July through October 2008. See SUPPLEMENTARY INFORMATION for meeting dates, times, and locations. The deadline for comments on the NOI has been extended from August 5, 2008, as published in the NOI on May 7, 2008 (73 FR 25665), to 5 p.m. on October 31, 2008.

ADDRESSES: Scoping meetings will be held in Freeport, Texas; Fort Pierce, Florida; St. Petersburg, Florida; and Gloucester, Massachusetts. See SUPPLEMENTARY INFORMATION for dates, times, and locations.

As published on May 7, 2008 (73 FR 25665), written comments on this action should be sent to Karyl Brewster-Geisz, Highly Migratory Species Management Division, by any of the following methods:

• E-mail: SCS_Scoping@noaa.gov. Include the following identifier in the subject line: “Scoping Comments on Amendment 3 to Consolidated HMS FMP”.

• Written: 1315 East-West Highway, Silver Spring, MD 20910. Please mark the outside of the envelope “Scoping Comments on Amendment 3 to Consolidated HMS FMP.”

• Fax: (301) 713-1917.

The issues and options presentation is available on the HMS website: http://www.nmfs.noaa.gov/sfa/hms/. For a copy of the related stock assessments, please contact Michael Clark or Jessica Beck at (301) 713-2347.

FOR FURTHER INFORMATION CONTACT: Michael Clark or Jessica Beck at (301) 713-2347, or Jackie Wilson at (240) 338-3936.

SUPPLEMENTARY INFORMATION: The Atlantic shark fisheries are managed under the authority of the Magnuson-Stevens Fishery Conservation and Management Act (Magnuson-Stevens Act). The 2006 Consolidated HMS FMP is implemented by regulations at 50 CFR part 635.

On May 7, 2008 (73 FR 25665), NMFS published a NOI that summarized the 2007 Small Coastal Shark (SCS) stock assessment conducted for Atlantic sharpnose, blacknose, bonnethead, and finetooth sharks. The NOI also described NMFS' determination as to the status of these stocks based on the results of the 2007 stock assessment, including the determination that blacknose sharks are overfished with overfishing occurring. As a result of this determination, NMFS is taking steps to amend current shark management measures via a third FMP amendment to the 2006 Consolidated HMS FMP. NMFS anticipates completing this amendment and any related documents by January 1, 2010. The comment period for the NOI has been extended and now ends at 5 p.m. on October 31, 2008. Additionally, NMFS now announces the availability of an issues and options presentation describing potential measures for inclusion in Amendment 3 to the 2006 Consolidated HMS FMP (see ADDRESSES).

Request for Comments

Four scoping meetings will be held (see Table 1 for meeting dates, times, and locations) to provide the opportunity for public comment on potential SCS shark management measures. These comments will be used to assist in the development of the upcoming amendment to the 2006 Consolidated HMS FMP. Specifically, NMFS requests comments on commercial SCS management options including, but not limited to, quota levels, establishing regions and regional and seasonal quotas, trip limits, minimum sizes, quota monitoring, authorized gears, permit structure, and prohibited species. In addition, NMFS is seeking comments on recreational SCS management options including, but not limited to, retention limits, minimum sizes, authorized gears, and landing requirements. Comments are also requested on SCS management measures to reduce fishing mortality of blacknose sharks in shrimp trawl fisheries as bycatch in these fisheries contributes to a significant proportion of fishing mortality for this species.

NMFS also requests comments on management issues concerning other shark species, including common thresher, hammerheads, ragged-tooth, and smooth dogfish sharks as well as the addition of deepwater sharks to a management unit, improving compliance with HMS regulations, enhanced Vessel Monitoring Systems (VMS), dealer reporting requirements, and quota monitoring. NMFS also seeks comments on display quotas and collection of sharks through exempted fishing permits, display permits, and scientific research permits.

Comments received on this action will assist NMFS in determining the options for rulemaking to conserve and manage shark resources and fisheries, consistent with the Magnuson-Stevens Act and the 2006 Consolidated HMS FMP.

Table 1. Dates, times, and locations of the four scoping meetings.
Date | Time | Meeting Locations | Address
July 30, 2008 | 5:30 - 7:30 p.m. | Freeport Branch Library | 410 Brazosport Boulevard, Freeport, TX 77541
Aug 27, 2008 | 6 - 8 p.m. | NOAA Fisheries Service, Southeast Regional Office | 263 13th Avenue South, Saint Petersburg, FL 33701
Aug 28, 2008 | 5:30 - 7:30 p.m. | Fort Pierce Library | 101 Melody Lane, Fort Pierce, FL 34950
Oct 9, 2008 | 3 - 5 p.m. | NOAA Fisheries Service, Northeast Regional Office | 1 Blackburn Drive, Gloucester, MA 01930

In addition to the four scoping meetings, NMFS will also present the issues and options presentation to the five Atlantic Regional Fishery Management Councils and the Atlantic and Gulf States Marine Fisheries Commissions during the public comment period. Please see the Councils' and Commissions' summer and fall meeting notices for dates, times, and locations. Finally, NMFS also expects to present the issues and options presentation at the fall 2008 HMS Advisory Panel (AP) meeting. The actual date and location of the AP meeting will be announced in a future Federal Register notice.

Scoping Meetings Code of Conduct

The public is reminded that NMFS expects participants at the scoping meetings to conduct themselves appropriately. At the beginning of each meeting, a representative of NMFS will explain the ground rules (e.g., alcohol is prohibited from the meeting room; attendees will be called to give their comments in the order in which they registered to speak; each attendee will have an equal amount of time to speak; attendees may not interrupt one another, etc.). The NMFS representative will structure the meeting so that all attending members of the public will be able to comment, if they so choose. Attendees are expected to respect the ground rules, and those that do not will be asked to leave the meeting.

Special Accommodations

The meetings are physically accessible to people with disabilities. Requests for sign language interpretation or other auxiliary aids should be directed to Jessica Beck (see FOR FURTHER INFORMATION CONTACT) at least 7 days prior to the meeting.

Dated: June 25, 2008.
Emily H. Menashes
Acting Director, Office of Sustainable Fisheries, National Marine Fisheries Service.

[FR Doc. E8-15053 Filed 7-1-08; 8:45 am]

BILLING CODE 3510-22-S